DEPARTMENT OF COMMERCE

International Trade Administration

[A-570-910]

Circular Welded Carbon Quality Steel Pipe From the People's Republic of China: Rescission of Antidumping Duty Administrative Review; 2011-2012

AGENCY: Import Administration, International Trade Administration, Department of Commerce.

SUMMARY: The Department of Commerce (“the Department”) is rescinding the administrative review of the antidumping duty order on circular welded carbon quality steel pipe from the People's Republic of China (“PRC”) for the period July 1, 2011, through June 30, 2012.

DATES: Effective Date: January 24, 2013.

FOR FURTHER INFORMATION CONTACT: Thomas Martin or Robert Bolling, AD/CVD Operations, Office 4, Import Administration, International Trade Administration, U.S. Department of Commerce, 14th Street and Constitution Avenue NW., Washington, DC 20230; telephone: (202) 482-3936 or (202) 482-3434, respectively.

SUPPLEMENTARY INFORMATION:

Background

On August 30, 2012, based on timely requests for review by Wheatland Tube Company (“Wheatland”) and LDR Industries, Inc. (“LDR”), the Department published in the Federal Register a notice of initiation of an administrative review of the antidumping duty order on circular welded carbon quality steel pipe from the PRC covering the period July 1, 2011, through June 30, 2012.¹ The review covers 27 companies: Adler Steel Ltd., Al Jazeera Steel Products Co. SAOG, Baoshan Iron & Steel Co., Ltd., Benxi Northern Steel Pipes, Co. Ltd., CNOOC Kingland Pipeline Co., Ltd., ETCO (China) International Trading Co., Ltd., Guangzhou Juyi Steel Pipes Co., Ltd., Hefei Zijin Steel Tube Manufacturing Co., Ltd., Huludao City Steel Pipe Industrial, Jiangsu Changbao Steel Tube Co., Ltd., Jiangsu Yulong Steel Pipe Co., Ltd., Liaoning Northern Steel Pipe Co., Ltd., MCC Liaoning Dragon Pipe Industries, Shanghai Zhongyou TIPO Steel Pipe Co., Ltd., SPAT Steel International, SteelFORCE Far East Ltd., Tianjin Baolai International Trade Co., Ltd., Tianjin Huilitong Steel Tube Co., Ltd., Tianjin Longshenghua Import & Export, Tianjin Shuangjie Steel Pipe Co., Ltd., Tianjin Uniglory International Trade Co., Ltd., Weifang East Steel Pipe Co., Ltd., WISCO & CRM Wuhan Material & Trade., Wuxi Fastube Industry Co., Ltd., Xuzhou Global Pipe & Fitting Manufacturing Co., Ltd., Zhejiang Kingland Pipeline Industry Co., Ltd., and Zhongjian Jinpei Steel Pipe Co. Ltd.

¹ See Initiation of Antidumping and Countervailing Duty Administrative Reviews and Request for Revocation in Part, 77 FR 52688, 52690 (August 30, 2012).

On September 7, 2012, LDR withdrew its request for an administrative review of Xuzhou Global Pipe & Fitting Manufacturing Co., Ltd. On November 28, 2012, Wheatland withdrew its request for an administrative review of the remaining 26 companies.

Rescission of Review

Pursuant to 19 CFR 351.213(d)(1), the Department will rescind an administrative review if the party that requested the review withdraws its request within 90 days of the publication of the notice of initiation of the requested review. In this case, LDR and Wheatland withdrew their requests within the 90-day deadline and no other parties requested an administrative review of the antidumping duty order. Therefore, we are rescinding the administrative review of circular welded carbon quality steel pipe from the PRC for the period July 1, 2011, through June 30, 2012.

Assessment

The Department will instruct U.S. Customs and Border Protection (“CBP”) to assess antidumping duties on all appropriate entries. Because the Department is rescinding this administrative review in its entirety, the entries to which this administrative review pertained shall be assessed antidumping duties at rates equal to the cash deposit of estimated antidumping duties required at the time of entry, or withdrawal from warehouse, for consumption, in accordance with 19 CFR 351.212(c). The Department intends to issue appropriate assessment instructions to CBP 15 days after publication of this notice.

Notifications

This notice serves as a final reminder to importers of their responsibility under 19 CFR 351.402(f)(2) to file a certificate regarding the reimbursement of antidumping duties prior to liquidation of the relevant entries during this review period. Failure to comply with this requirement could result in the Department's presumption that reimbursement of the antidumping duties occurred and the subsequent assessment of doubled antidumping duties.

This notice also serves as a final reminder to parties subject to administrative protective order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: January 17, 2013.
Christian Marsh,
Deputy Assistant Secretary for Antidumping and Countervailing Duty Operations.

[FR Doc. 2013-01413 Filed 1-23-13; 8:45 am]

BILLING CODE 3510-DS-P